DEPARTMENT OF DEFENSE

Department of the Army; Corps of Engineers

Intent To Prepare a Draft Environmental Impact Statement To Permit Construction of Dam and Reservoir along Murder Creek, Conecuh County, AL

AGENCY: Department of the Army, U.S. Army Corps of Engineers, DOD.

ACTION: Notice of intent.

SUMMARY: The Mobile District, U.S. Army Corps of Engineers (Corps) intends to prepare a Draft Environmental Impact Statement (EIS) to address the potential impacts associated with permitting construction of a dam and reservoir along Murder Creek in Conecuh County, AL. Evaluation of the proposed project via an EIS will proceed in compliance with the National Environmental Policy Act (NEPA). Upon completion of the EIS, the Corps will evaluate a permit application for the proposed work under the authority of Section 404 of the Clean Water Act.

FOR FURTHER INFORMATION CONTACT: Questions about the proposed action, the NEPA process and the Draft EIS should be addressed to Mr. Chuck Sumner, Planning and Environmental Division, phone (251) 694-3857 or e-mail at lewis.c.sumner@usace.army.mil, Mobile District, U.S. Army Corps of Engineers, P.O. Box 2288, Mobile, AL 36628-0001.

SUPPLEMENTARY INFORMATION: 1. The applicant for the permit is the Conecuh County Commission. The permit application proposes construction of a dam and the creation of an estimated 2,650 acre lake on Murder Creek in central Conecuh County, AL, approximately three miles northwest of the City of Evergreen. The lake is proposed to be used as a source of irrigation for local agriculture and a water source for the anticipated bio-fuel industry expected to move into the local area. Construction of the proposed lake will require an approximately 2,000 feet long dam across Murder Creek.

2. Alternatives to the applicants' proposal may exist which would reduce impacts to the surrounding environment. These could include, but are not restricted to, reducing the surface elevation of the lake, thereby building a smaller lake, considering alternate site locations for the lake, pursuing alternate site layouts that may have less impact on the environment, or pursuing alternate sources of water for irrigation and the bio-fuels industry, or combinations of these or other alternatives. A determination of these or other alternatives to be evaluated will be developed during the scoping and evaluation phase of the EIS.

3. Scoping: a. The Corps invites full public participation to promote open communication on the issues surrounding the proposal. All Federal, State, and local agencies, native American tribes, and other persons or organizations that have an interest are urged to participate in the NEPA scoping process. A public scoping meeting will be held to help identify significant issues and to receive public input and comment. The location and time for the public scoping meeting will be advertised through various media outlets at least 30 days prior to the meeting date.

b. The Draft EIS will analyze the potential social, economic, and environmental impacts to the local area resulting from the proposed project and alternatives. Specifically, the following major issues will be analyzed in the Draft EIS: hydrologic and hydraulic regimes, threatened and endangered species, fish and wildlife habitat, wetlands, essential fish habitat and other marine habitat, air quality, cultural resources, wastewater treatment capacities and discharges, drainage discharges, transportation systems, alternatives, secondary and cumulative impacts, socioeconomic impacts, environmental justice (effect on minorities and low-income groups) (Executive Order 12898), and protection of children (Executive Order 13045).

c. The Corps will serve as the lead Federal agency in the preparation of the Draft EIS. The Corps intends to coordinate and/or consult with an interagency team of Federal and State agencies during scoping and preparation of the Draft EIS. A decision will be made during the scoping process whether other agencies will serve in an official role as cooperating agencies.

4. It is anticipated that the DEIS will be made available for public review in December 2009.

Byron G. Jorns,
Colonel, Corps of Engineers, District Commander.

[FR Doc. E8-25986 Filed 10-30-08; 8:45 am]

BILLING CODE 3720-58-P